DEPARTMENT OF AGRICULTURE

Forest Service

Bridger-Teton National Forest; Pinedale Ranger District; Wyoming; Environmental Impact Statement for the Upper Green River Area Rangeland Project

AGENCY: Forest Service, USDA.

ACTION: Notice of intent to prepare a supplemental environmental impact statement.

SUMMARY: The Department of Agriculture, Forest Service, will update and supplement the 2004 Environmental Impact Statement (EIS) to analyze the effects of domestic livestock grazing in the upper Green River area. As part of the process, the Forest Service will prepare a supplemental Draft Environmental Impact Statement for public comment. This project was previously published in the Federal Register on the following dates: (1) Notice of intent to prepare an EIS published on 7/23/2003 (Vol. 68, #141, page 43487), (2) Notice of availability of a draft EIS published on 3/12/2004 (Volume 69, #49, page 11853), (3) Notice of availability of a final EIS published on 2/4/2005 (Volume 70, #23, page 6004). The analysis contained in the EIS will be used by the Responsible Official to decide whether or not, and how, livestock grazing would be authorized on the grazing allotments within the project area. The project area is located in western Wyoming; approximately 30 miles northwest of Pinedale, Wyoming near the Green River Lakes. The majority of the project area lies within Sublette County, with small portions that extend into Teton and Fremont counties. The entire 162,800 acre project area lies within the boundaries of the Pinedale Ranger District. The project area is comprised of the following six grazing allotments: Badger Creek, Beaver-Twin Creeks, Noble Pastures, Roaring Fork, Upper Green River, and Wagon Creek.

DATES: Comments concerning the scope of the analysis were solicited in the 7/23/2003 Notice of Intent. All comments that were received during the previous analysis period will be reconsidered in the current analysis. The draft environmental impact statement is expected in March of 2010 and the final environmental impact statement is expected in July of 2010.

ADDRESSES: District Ranger, Pinedale Ranger District, Box 220, Pinedale, Wyoming 82941, telephone 307-367-4326, facsimile 307-367-5750 or send electronic mail to comments-intermtn-bridger-teton-pinedale@fs.fed.us and on the subject line, put only “Upper Green Grazing Allotments”. Again, comments that were previously submitted will be considered and need not be re-submitted. Comments on the supplemental draft that is expected to be released in March of 2010 would be most helpful.

FOR FURTHER INFORMATION CONTACT: Dave Booth, Project Manager, Pinedale Ranger District, 307-367-5754, dbooth@fs.fed.us, and see addresses above. Individuals who use telecommunication devices for the deaf (TDD) may call the Federal Information Relay Service (FIRS) at 1-800-877-8339 between 8 a.m. and 8 p.m., Eastern Time, Monday through Friday.

SUPPLEMENTARY INFORMATION:

Purpose and Need for Action

The Rescission Act of 1995 (Pub. L. 104-19, Section 504(a)) requires the Forest Service to schedule and complete analysis and decisions for grazing allotments where needed. The purpose and need for the proposed action is to authorize grazing activities on the Badger Creek, Beaver-Twin Creeks, Noble Pastures, Roaring Fork, Upper Green River, and Wagon Creek Allotments in a way that sustains the health of the land and has value to grazing permittees. The allotment management plan is the document used to implement revised or updated direction and/or refine desired rangeland conditions and institute management prescriptions to meet them. Allotment management plans may be revised by this decision. Integral to this is a need to confirm or attain compliance and consistency of this analysis and its resultant decision with legal mandates, including the National Environmental Policy Act of 1976 (NEPA), as well as policy direction, including the Bridger-Teton National Forest Land and Resource Management Plan (Forest Plan). This action contributes toward the accomplishment of Goal 1.1(h) in the Forest Plan (page 113), which states “provide for about 260,000 Animal Unit Months (AUMs) of livestock grazing annually” and Goal 4.7 which states “Grazing use of the National Forest sustains or improves overall range, soils, water, wildlife, and recreation values or experiences”. To date the Forest Service has identified three alternatives.

Alternative A: Grazing as Currently Permitted (No Action Alternative)

Although allotment management plans (AMPs) would be prepared for each of the six allotments, the grazing management practices specified for the allotments with existing AMPs would not be changed. The Upper Green River and Roaring Fork allotments would continue to operate under the guidelines specified in AMPs that are over 25 years old, and season-long grazing would persist in the Badger Creek and Beaver-Twin Creeks allotments. In addition, no new utilization standards would be initiated to move existing resource conditions in the project area toward the desired future conditions (DFCs) specified in the Forest Plan.

Alternative B: Proposed Action

Authorize continued grazing under a specific management regime, designed to sustain or improve the overall ecological condition of the project area. The updated direction would be incorporated in respective allotment management plans (AMPs) to guide grazing management within the project area. New allotment management plans (AMPs) would be developed for the Badger Creek, Beaver-Twin Creeks, Noble Pastures, and Wagon Creek allotments, and the existing AMPs for the Roaring Fork and Upper Green River allotments would be updated as a result of this action. Grazing management strategies would be developed or revised in accordance with the Code of Federal Regulations (CFR), 36 CFR 222.l(b)(2), which describes allotment management planning provisions. Current grazing management strategies would be maintained where resource objectives are being achieved, and new management strategies would be implemented in areas where resource objectives have not been met. Rotational grazing systems would be initiated in the Badger Creek, Beaver-Twin Creeks, and Roaring Fork allotments and modified, as needed, in the remaining allotments to ensure desired conditions are reached.

Alternative C: No Grazing by Domestic Livestock (No Grazing Alternative)

Alternative C would eliminate livestock grazing in the project area. This alternative was developed to demonstrate the effects that eliminating domestic cattle grazing would have on the environment and to more clearly illustrate the potential effects of implementing either Alternative A or Alternative B. Under this alternative, domestic livestock grazing in all six allotments of the project area would be phased out over several years as existing Term Grazing Permits expire.

Responsible Official

District Ranger, Pinedale Ranger District, P.O. Box 220, Pinedale, Wyoming 82941.

Nature of Decision To Be Made

The District Ranger will decide whether or not to authorize continued grazing under a specific management regime designed to sustain and/or improve the overall ecological condition of the project area. The decision would include adaptive management and any mitigation measures needed in addition to those prescribed in the Forest Plan.

Preliminary Issues

The Forest Service has identified the following potential issues.

Issue 1—Effects of livestock grazing on riparian and aquatic function.

Issue 2—Effects of livestock grazing on Threatened, Endangered and Sensitive species.

Issue 3—The social and economic effects of authorizing livestock grazing in the area.

Issue 4—Effects of livestock grazing on rangeland function.

Scoping Process

The following methods were used to invite the public to participate in this project: A scoping letter was mailed to those listed on the Bridger-Teton National Forest's general mailing list on February 10, 2000. The mailing list included private landowners, term grazing permit holders, special interest groups, interested members of the public, and local, State, and Federal agencies. The letter described the proposed action, the purpose and need for the project, the process that would be followed for completing the environmental analysis, and the scope of the decision to be made. Additionally, the letter solicited public participation in the process, specifically the submission of comments, concerns, and recommendations regarding management of the six allotments in the project area. Term grazing permit holders, or their representatives, were contacted shortly after the project was initiated to solicit their input concerning management of the six allotments within the project area. This project was previously published in the Federal Register on the following dates: (1) Notice of intent to prepare an EIS published on 7/23/2003 (Vol. 68, #141, page 43487), (2) Notice of availability of a draft EIS published on 3/12/2004 (Volume 69, #49, page 11853), (3) Notice of availability of a final EIS published on 2/4/2005 (Volume 70, #23, page 6004). Public comments were received in response to the scoping announced in the Notice of Intent and in response to the Draft EIS described in the 3/12/2004 Notice of Availability.

No additional comments are sought at this time. All previously submitted comments will be used to prepare the supplemental Draft EIS. All those who commented on the 2004 DEIS in a timely manner will be eligible to appeal the final decision pursuant to 36 CFR 215. In addition, all those who comment on the supplemental DEIS in a timely manner will be eligible to appeal the final decision.

Dated: November 16, 2009.
Joe Harper,
Acting District Ranger.

[FR Doc. E9-28520 Filed 11-30-09; 8:45 am]

BILLING CODE 3410-11-M